DEPARTMENT OF EDUCATION

Notice of Proposed Information Collection Requests; Federal Student Aid; Student Assistance General Provisions—Readmission for Servicemembers

SUMMARY: The regulations establish the requirements under which an institution must readmit servicemembers with the same academic status they had at the institution when they last attended before being called to uniformed service.

DATES: Interested persons are invited to submit comments on or before November 23, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04933. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Student Assistance General Provisions—Readmission for Servicemembers.

OMB Control Number: 1845-0095.

Type of Review: Extension.

Total Estimated Number of Annual Responses: 4,964.

Total Estimated Number of Annual Burden Hours: 1,664.

Abstract: This is a request for an extension of the current information collection. As provided by the Higher Education Opportunity Act, the regulations state the requirements under which an institution must readmit servicemembers with the same academic status they had at the institution when they last attended (or where they were accepted for attendance). The regulations require institutions to charge readmitted servicemembers, for the first academic year of their return, the same institutional charges they were charged for the academic year during which they left the institution (see section 484C of the Higher Education Act of 1965, as amended).

Dated: September 18, 2012.
Darrin A. King,
Director, Information Collection Clearance Division, Privacy, Information and Records Management Services, Office of Management.

[FR Doc. 2012-23507 Filed 9-21-12; 8:45 am]

BILLING CODE 4000-01-P